DEPARTMENT OF TRANSPORTATION

Federal Aviation Administration

Notice of Availability of the Record of Decision (ROD) for the Final Environmental Impact Statement (Final EIS) for the Development and Expansion of Runway 9R/27L and Other Associated Airport Projects at Fort Lauderdale-Hollywood International Airport (FLL), Broward County, FL, Published in June 2008

AGENCY: Federal Aviation Administration (FAA), U.S. Department of Transportation (DOT).

ACTION: Notice of Availability of Record of Decision (ROD).

SUMMARY: The FAA is issuing this notice to advise the public that it has issued a ROD for the Final EIS that evaluated the proposed expansion of Runway 9R/27L and other associated airport projects at FLL. Broward County, the Airport Sponsor, owns and operates FLL. The Airport Sponsor has proposed airport development at FLL to address existing and forecast aviation demand. This ROD provides final agency determinations and approvals for those federal actions by the FAA necessary for the proposed airport projects.

SUPPLEMENTARY INFORMATION: The FAA has completed and is publishing its ROD for the proposed expansion of Runway 9R/27L and other associated airport projects at FLL. The Environmental Protection Agency (EPA) published a notice of availability of the Final EIS for this proposed airport project in the Federal Register on June 27, 2008. The Final EIS was prepared in compliance with the National Environmental Policy Act of 1969 (NEPA) [42 U.S.C. 4321, et seq.], the implementing regulations of the Council on Environmental Quality (CEQ) [40 CFR Parts 1500-1508] and FAA directives [Order 1050.1E and Order 5050.4B], and assessed the potential impacts of eight runway development alternatives, as well as the No Action Alternative. The FAA accepted comments on the Final EIS and these comments, along with the FAA's responses, are included in Appendix A of the ROD. The FAA identified Alternative B1b as its preferred alternative in the Final EIS and selected alternative in the ROD.

The selected alternative B1b includes the expansion of Runway 9R/27L to an overall length of 8,000 feet and width of 150 feet with an Engineered Materials Arresting System (EMAS) at both runway ends. The runway extends to the east without encroaching onto NE 7th Avenue and would be elevated over the Florida East Coast (FEC) Railway and U.S. Highway 1. The western extent of the runway is the Dania Cut-Off Canal. The selected alternative includes the following: construct a new full-length parallel taxiway 75 feet wide on the north side of Runway 9R/27L with separation of 400 feet from 9R/27L; construct an outer dual parallel taxiway that would be separated from the proposed north side parallel taxiway by 276 feet; construct connecting taxiways from the proposed full-length parallel taxiway to existing taxiways; construct an Instrument Landing System (ILS) for landings on Runways 9R and 27L; Runway ends 9R and 27L would have a Category I ILS, which includes a Medium Intensity Approach Light System with runway alignment indicator lights (MALSR), localizer, and glideslope.

Runway 13/31 would be decommissioned and permanently closed due to the increased elevation of the expanded Runway 9R/27L at its intersection with Runway 13/31. The terminal redevelopment envelope can accommodate a total of 67 to 77 gates and would accommodate the FAA-forecast levels of passenger-related activity through 2020. The terminal redevelopment envelope accommodates the potential redevelopment of Terminals 2, 3, and 4 including aircraft parking positions, taxilanes, and remote parking positions. During project design, the Airport Sponsor will consider the refinement of airfield and terminal area elements that include the design, location, and number of taxiway exits, aircraft holding pads, and runway access areas.

Connected actions associated with the selected alternative include: close Airport Perimeter Road located within the approach to Runway 9R; relocate Airport Surveillance Radar (ASR-9); acquire all, or a portion, of the Hilton Fort Lauderdale Airport Hotel (formerly the Wyndham Fort Lauderdale Airport Hotel); acquire all, or a portion, of the Dania Boat Sales.

The FAA is granting approval to amend the airport layout plan (ALP) with the conditions noted in Section 8 of the ROD, Conditions of Approval, for the projects summarized in Section 1 of the ROD, Description of Airport Sponsor's Proposed Action, which constitutes the selected alternative in the ROD—FAA's Preferred Alternative (B1b).

Paper copies and CD copies of the ROD are available for review at various libraries in Broward County, the FAA Headquarters Office in Washington, D.C. and its Southern Regional Office in College Park, Georgia and Airports District Office in Orlando, Florida and at the administrative offices of the City of Cooper City, City of Dania Beach, City of Fort-Lauderdale, City of Hollywood, City of Lauderhill, City of Pembroke Pines, City of Plantation, City of Sunrise, and the Town of Davie, as well as the Fort Lauderdale-Hollywood International Airport. The addresses and telephone numbers for these locations are provided in the Final EIS, in Chapter Nine.

The Final EIS is available on Broward County's airport Web site: http://www.broward.org/airport/community_airportexpansion.htm. This ROD is available on the FAA's Web site: http://www.faa.gov/airports_airtraffic/airports/environmental/records_decision/.

FOR FURTHER INFORMATION CONTACT: Virginia Lane, Environmental Specialist, Federal Aviation Administration, Orlando Airports District Office, 5950 Hazeltine National Drive, Suite 400, Orlando, Florida 32822, Telephone (407) 812-6331 Extension 129.

Issued in Orlando, Florida on December 19, 2008.
W. Dean Stringer,
Manager, Orlando Airports District Office.

[FR Doc. E9-190 Filed 1-8-09; 8:45 am]

BILLING CODE 4910-13-P